SMALL BUSINESS ADMINISTRATION

[Declaration of Disaster #3619]

Commonwealth of Virginia; Amendment #1

In accordance with a notice received from the Department of Homeland Security—Federal Emergency Management Agency—effective September 8, 2004, the above numbered declaration is hereby amended to establish the incident period for this disaster as beginning August 30, 2004, 2004, and continuing through September 8, 2004. All other information remains the same, i.e., the deadline for filing applications for physical damage is November 2, 2004 and for economic injury the deadline is June 3, 2005.

(Catalog of Federal Domestic Assistance Program Nos. 59002 and 59008).

Dated: September 10, 2004.
S. George Camp,
Acting Associate Administrator for Disaster Assistance.

[FR Doc. 04-20886 Filed 9-15-04; 8:45 am]

BILLING CODE 8025-01-P